DEPARTMENT OF AGRICULTURE

Forest Service

Information Collection; 4-Rivers Application and Drawing

AGENCY: Forest Service, USDA.

ACTION: Notice; request for comment.

SUMMARY: In accordance with the Paperwork Reduction Act of 1995, the Forest Service is seeking comments from all interested individuals and organizations on the new information collection, 4-Rivers Application and Drawing.

DATES: Comments must be received in writing on or before January 20, 2009 to be assured of consideration. Comments received after that date will be considered to the extent practicable.

ADDRESSES: Comments concerning this notice should be mailed to: Linda Walton, River Manager, North Fork Ranger Station, P.O. Box 180, North Fork, ID 83466.

Comments also may be submitted via facsimile to 208-865-2738 or by e-mail to: lwalton@fs.fed.us.

The public may inspect comments received at North Fork Ranger Station, P.O. Box 180, 11 Casey Rd., North Fork, ID, during normal business hours. Visitors are encouraged to call ahead to 208-865-2700 to facilitate entry to the building. Comments may also be reviewed by accessing Forest Service Web Page listed: http://www.fs.fed.us/r4/sc/recreation/whitewaterrafting/index.shtml.

FOR FURTHER INFORMATION CONTACT: Linda Walton, River Manager, Salmon-Challis National Forest, 208-865-2737. Individuals who use telecommunication devices for the deaf (TDD) may call the Federal Relay Service (FRS) at 1-800-877-8339 twenty-four hours a day, every day of the year, including holidays.

SUPPLEMENTARY INFORMATION: Title: 4-Rivers Application and Drawing.

OMB Number: 0596-NEW.

Type of Request: New.

Abstract: The 4-Rivers application and drawing provides an opportunity for private river runners to compete for a river permit on one of four rivers in Idaho. Public demand for use permits on the Main Salmon, Middle Fork, Selway, and Snake Rivers are high. The drawing provides a means to assist managers and public by accommodating greater numbers of people.

The drawing allows all applicants equal probability of receiving a river permit. Selection of permit recipients is via a computer driven random selection process. Upon selection, applicants receive river use permits from the Forest Service.

The following Federal Acts provide participating forests with management direction, limiting the number of river users during high demand seasons while still providing river recreation opportunities to visitors. These Acts allow for management controls necessary to protect river resources and enhance river ecosystems previously determined to have superior characteristics.

1. The Frank Church River of No Return Wilderness Plan 1982, updated 2003.

2. The Wild and Scenic Rivers Act 1968.

3. The Wilderness Act of 1964.

4. Central Idaho Wilderness Act (CIWA) of 1980.

Drawing participants enter required information electronically into a Forest Service database. Forest Service personnel (river managers and clerks) in Forest offices associated with each river, check received hardcopy applications for completeness and errors prior to entry into database. Applicants are encouraged to submit applications electronically.

Applicants provide:

1. Photo Identification Number.

2. State of Identification and type of ID (Driver's license, Passport, Other).

3. Name.

4. Mailing Address.

5. Other contact information: e-mail address, day and evening phone numbers, fax number.

6. Choice of launch dates and rivers (up to four choices).

7. Payment information (i.e. check or money order number) or if paying by credit card respondent submits the administrative fee of $6.00 via www.pay.gov.

Information submitted by the public is stored, maintained, and used as outlined in Privacy Act System of Records USDA/FS-55, National Recreation Reservation System.

This information collection is vital to continued management of the aforementioned rivers. Without this management tool, the Agency is unable to control river use. The ability to control use of these rivers is vital to maintaining the superior health and vitality of these waterways. Collecting drawing applications during a specific time each year, will ensure that river users are able to obtain permits in time for the annual floating season.

Estimate of Annual Burden: 15 minutes.

Type of Respondents: Individuals.

Estimated Annual Number of Respondents: 16,200.

Estimated Annual Number of Responses per Respondent: 1.

Estimated Total Annual Burden on Respondents: 4,050.

Comment is Invited

Comment is invited on: (1) Whether this collection of information is necessary for the stated purposes and the proper performance of the functions of the agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: November 12, 2008.
Charles L. Myers,
Associate Deputy Chief, National Forest System.

[FR Doc. E8-27442 Filed 11-18-08; 8:45 am]

BILLING CODE 3410-11-P